DEPARTMENT OF JUSTICE

Notice of Lodging of Proposed Consent Decree Under the Comprehensive Environmental Response, Compensation, and Liability Act (CERCLA)

On December 16, 2020, the Department of Justice lodged a proposed consent decree with the United States District Court for the District of Delaware in the lawsuit entitled United States v. Delaware, Civil Action No. 1:20-cv-01703-UNA.

The United States filed this lawsuit under the Comprehensive Environmental Response, Compensation, and Liability Act (CERCLA) against the state of Delaware. The complaint seeks recovery of past costs that the United States Environmental Protection Agency (EPA) incurred in responding to releases or threatened releases of hazardous substances at a former landfill at the Governor Bacon Health Center/Fort DuPont State Park in New Castle County, Delaware. Under the consent decree, Delaware agrees to pay $1,889,992.30 of EPA's past response costs, while the United States Department of Defense (Settling Federal Agency) agrees to pay $1,700,993.07 of EPA's past response costs. In return, the United States agrees not to sue Delaware under Sections 107 and 113 of CERCLA, and Delaware agrees not to sue the United States for any portion of EPA's past response costs, including under Sections 107 or 113 of CERCLA.

The publication of this notice opens a period for public comment on the consent decree. Comments should be addressed to the Assistant Attorney General, Environment and Natural Resources Division, and should refer to United States v. Delaware, D.J. Ref. No. 90-11-3-11709. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $4.75 (25 cents per page reproduction cost) payable to the United States Treasury.

Jeffrey Sands,
Assistant Section Chief, Environmental Enforcement Section, Environment and Natural Resources Division.

[FR Doc. 2021-00589 Filed 1-13-21; 8:45 am]

BILLING CODE 4410-15-P